DEPARTMENT OF DEFENSE

Office of the Secretary

Submission for OMB Review; Comment Request

AGENCY: Office of the Secretary, DoD.

ACTION: Notice.

The Department of Defense has submitted to OMB for clearance, the following proposal for collection of information under the provisions of the Paperwork Reduction Act (44 U.S.C. Chapter 35).

DATES: Consideration will be given to all comments received by June 28, 2004.

Title, Form, and OMB Number: Automated Repatriation Tracking System; DD Form 2585; OMB Number 0704-0334.

Type of Request: Extension.

Number of Respondents: 5,000.

Responses Per Respondent: 1.

Annual Responses: 5,000.

Average Burden Per Response: 20 minutes.

Annual Burden Hours: 1,667.

Needs and Uses: Executive Order 12656 establishes the responsibilities for the Department of Health and Human Services and the Department of Defense to take care of any American citizen and family member that are evacuated from any country and ensure their personal needs are met. This information collection provides evacuation information necessary to account for any military and civilian regardless of nationality, who are processed through designated Repatriation Centers throughout the United States. The DD Form 2585, Repatriation Processing Center Processing Sheet, is used to collect the necessary data which is entered into the Repatriation Automated Tracking System; a series of reports that is accessible to the Department of Defense, Federal and State agencies, and the Red Cross, as required.

Affected Public: Individuals or households; Federal Government; State, local or tribal government.

Frequency: On occasion.

Respondent's Obligation: Required to obtain or retain benefits.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection should be sent to Mr. Cushing, WHS/ESCD Information Management Division, 1225 South Clark Street, Suite 504, Arlington, VA 22202-4326.

Dated: May 24, 2004.
L.M. Bynum,
Alternate OSD Federal Register Liaison Officer, Department of Defense.

[FR Doc. 04-12112 Filed 5-27-04; 8:45 am]

BILLING CODE 5001-06-M